COMMISSION ON CIVIL RIGHTS

Agenda and Notice of Public Meeting of the Georgia Advisory Committee

Notice is hereby given, pursuant to the provisions of the rules and regulations of the U.S. Commission on Civil Rights, that a meeting of the Georgia Advisory Committee will convene at 1 p.m. and adjourn at 5 p.m. on Thursday, March 1, 2007, at Conference Room A, Sam Nunn Federal Building, 61 Forsyth St., SW., Atlanta, Georgia, 30303. The purpose of the meeting is to give an orientation to members, discuss the Committee's report on school desegregation, receive a briefing on religious freedom for prisoners, and discuss future activities of the Committee.

Persons desiring additional information should contact Peter Minarik, Regional Director, Southern Regional Office, at 404-562-7000 (or for the hearing impaired TDD 202-376-8116). Hearing-impaired persons who will attend the meeting and require the services of a sign language interpreter should contact the Regional Office at least ten (10) working days before the scheduled date of the meeting.

The meeting will be conducted pursuant to the provisions of the rules and regulations of the Commission.

Dated at Washington, DC, February 12, 2007.
Ivy L. Davis,
Acting Chief, Regional Programs Coordination Unit.

[FR Doc. E7-2775 Filed 2-15-07; 8:45 am]

BILLING CODE 6335-01-P